DEPARTMENT OF LABOR

Employment and Training Administration

[TA-W-41,874A and TA-W-41,874B]

Sebago, Inc., Now Known as Sebago USA, LLC, a Wholly Owned Subsidiary of Wolverine Worldwide, Westbrook, ME, and Gorham, ME; Amended Certification Regarding Eligibility To Apply for Worker Adjustment Assistance

In accordance with section 223 of the Trade Act of 1974 (19 U.S.C. 2273) the Department of Labor issued a Certification of Eligibility to Apply for Worker Adjustment Assistance on September 30, 2002, applicable to workers of Sebago, Inc., Westbrook, Maine and Gorham, Maine. The notice was published in the Federal Register on October 22, 2002 (67 FR 64923).

At the request of the State agency, the Department reviewed the certification for workers of the subject firm. The workers are engaged in the production of men's and women's footwear.

New information shows that Wolverine Worldwide purchased the Westbrook, Maine and Gorham, Maine locations of Sebago, Inc. and is now known as Sebago USA, LLC, a wholly owned subsidiary of Wolverine Worldwide. Workers separated from employment at the Westbrook, Maine and Gorham, Maine locations of the subject firm had their wages reported under a separate unemployment insurance (UI) tax account for Sebago USA, LLC, a wholly owned subsidiary of Wolverine Worldwide.

Accordingly, the Department is amending the certification to properly reflect this matter.

The intent of the Department's certification is to include all workers of Sebago, Inc., now known as Sebago USA, LLC, a wholly owned subsidiary of Wolverine Worldwide, Westbrook, Maine, and Gorham, Maine, who were adversely affected by increased imports.

The amended notice applicable to TA-W-41,874A and TA-W-41,874B are hereby issued as follows:

All workers of Sebago, Inc., now known as Sebago USA, LLC, a wholly owned subsidiary of Wolverine Worldwide, Westbrook, Maine (TA-W-41,874A) and Gorham, Maine (TA-W-41,874B), who became totally or partially separated from employment on or after September 19, 2002, through September 30, 2004, are eligible to apply for adjustment assistance under Section 223 of the Trade Act of 1974.

Signed at Washington, DC, this 6th day of November, 2003.
Linda G. Poole,
Certifying Officer, Division of Trade Adjustment Assistance.

[FR Doc. 03-29551 Filed 11-25-03; 8:45 am]

BILLING CODE 4510-30-P